ENVIRONMENTAL PROTECTION AGENCY

40 CFR Part 82

[FRL-7629-2]

RIN 2060-AG12

Protection of Stratospheric Ozone

AGENCY: Environmental Protection Agency.

ACTION: Notice of denial of petition.

SUMMARY: This action notifies the public that the Agency received a petition pursuant to section 612(d) of the Clean Air Act, under the Significant New Alternatives Policy (SNAP) Program, and that EPA is denying the petition. SNAP implements section 612 of the Clean Air Act Amendments of 1990, which requires EPA to evaluate substitutes for ozone-depleting substances (ODSs) and to regulate the use of substitutes where other alternatives exist that reduce overall risk to human health and the environment. Through these evaluations, EPA generates lists of acceptable and unacceptable substitutes for each of the major industrial use sectors that use ODSs, including the refrigeration and air-conditioning sector. OZ Technology, Inc. submitted HC-12a, previously referenced as Hydrocarbon Blend B, as a CFC-12 substitute in a variety of end-uses on July 19, 1994. In a June 13, 1995 final SNAP rulemaking (60 FR 31092), EPA found the use of HC-12a unacceptable as a substitute for CFC-12 in all end-uses other than industrial process refrigeration. This determination was based on a lack of adequate data demonstrating that HC-12a could be used safely in these end-uses; the most recent petition from OZ does not provide any additional information to address this issue. In addition, numerous other acceptable alternatives to ODSs exist in these end-uses.

EFFECTIVE DATE: March 2, 2004.

ADDRESSES: Information relevant to this notice is contained in Air Docket A-91-42, 1301 Constitution Avenue, NW., U.S. Environmental Protection Agency, Mail Code 6102T; Washington, DC 20460. The docket reading room is located at the address above in room B102 in the basement. Reading room telephone: (202) 566-1744, facsimile: (202) 566-1749 Air docket staff telephone: (202) 566-1742 and facsimile: (202) 566-1741 You may inspect the docket between 8:30 a.m. and 4:30 p.m. weekdays. As provided in 40 CFR Part 2, a reasonable fee may be charged for photocopying.

FOR FURTHER INFORMATION CONTACT: Dave Godwin by telephone at (202) 343-9324, by facsimile at (202) 343-2316, by e-mail at Godwin.Dave@epa.gov, or by mail at U.S. Environmental Protection Agency, Mail Code 6205J, Washington, DC 20460.

For more information on the Agency's process for administering the SNAP program or criteria for evaluation of substitutes, refer to the original SNAP rulemaking published in the Federal Register on March 18, 1994 (59 FR 13044). Notices and rulemakings under the SNAP program, as well as other EPA publications on protection of stratospheric ozone, are available from EPA's Ozone Depletion World Wide Web site at http://www.epa.gov/ozone/ including the SNAP portion at http://www.epa.gov/ozone/snap/.

SUPPLEMENTARY INFORMATION: Since the publication of this unacceptability determination, OZ Technology, Inc. (“OZ”) has petitioned EPA four times. The following table provides information about each of the previous petitions and EPA's denials.

Item | Date | Location (within docket A-91-42) | FR Notice
OZ Petition 1 | November 4, 1994 | VI-D-75 | N/A
EPA Denial of Petition 1 | July 25, 1995 | VI-C-7 | 60 FR 49407
OZ Petition 2 | December 5, 1995 | VI-D-135 | N/A
EPA Denial of Petition 2 | August 30, 1996 | VI-C-20 | 61 FR 51018
OZ Petition 3 | May 1, 1998 | VI-D-229 | N/A
EPA Denial of Petition 3 | November 13, 1998 | VI-C-28 | 64 FR 3272

On July 8, 2003, OZ petitioned EPA for the fourth time, once again requesting that EPA remove HC-12a from the unacceptable list and add it to the acceptable list as an ODS substitute in all refrigeration and air-conditioning end-uses, except the industrial process refrigeration end-use, where EPA has already found the use of HC-12a as acceptable. The petition is in Air Docket A-91-42, file number VI-D-306. On January 14, 2004, EPA notified the company that it has denied the petition on the basis that the information included in the petition did not adequately address safety issues regarding the use of HC-12a as a CFC-12 substitute in the subject end-uses. The denial and the accompanying documentation are in Air Docket A-91-42, file number VI-C-31. This Notice publicizes EPA's denial of the fourth petition.

Contact the Stratospheric Protection Hotline at 1-800-296-1996, Monday-Friday, between the hours of 10 a.m. and 4 p.m. (Eastern Time) weekdays. For more information on the Agency's process for administering the SNAP program or criteria for evaluation of substitutes, refer to the SNAP final rulemaking published in the Federal Registeron March 18, 1994 (59 FR 13044). Federal Register notices can be ordered from the Government Printing Office Order Desk (202) 783-3238; the citation is the date of publication. This Notice may also be obtained on the World Wide Web at http://www.epa.gov/docs/ozone/title6/snap/.

List of Subjects in 40 CFR Part 82

Environmental protection, Administrative practice and procedure, Air pollution control, Reporting and recordkeeping requirements.

Dated: February 20, 2004.
Michael O. Leavitt,
Administrator.

[FR Doc. 04-4627 Filed 3-1-04; 8:45 am]

BILLING CODE 6560-50-P